DEPARTMENT OF COMMERCE

Bureau of Industry and Security

15 CFR Part 734

Scope of the Export Administration Regulations

CFR Correction

In Title 15 of the Code of Federal Regulations, Parts 300 to 799, revised as of January 1, 2015, on page 233, in § 734.4, in paragraph (a)(4), add the term “ECCN” before “9E003.a.1”.

[FR Doc. 2015-28286 Filed 11-9-15; 8:45 am]

BILLING CODE 1505-01-D